DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2015. For purposes of this listing, long-term residents, as defined in section 877(e)(2), are treated as if they were citizens of the United States who lost citizenship.

Last name | First name | Middle name/Initials
ABRAMSOM | NEIL | ALBEN REMINGTON
ACTON | BROOKE | ASHLEY
ADAM | DAVID | NEAL
AGAR-WAITE | LESLIE | ELIZABETH
AGGERSBJERG | KASPER |
AHLGREN | ROSS | DAVID
AHMAD | ZEBA | TAMANNA
AICHI | JIRO |
AKERMAN | SUZANNE | L
ALDCROFT | GEORGE | WILLIAM
ALLAN | FRASER | KIRKWOOD
ALLIBERT | INES | MAGDELEINE MARIE
AMOG | MELCHOR | FALLORINA
AN | JENNIFER | SOHYUN
ANDERSON | CURTIS | LESLIE
ANTHONY | JACQUELINE | SELMA
ARATO | JUDITH | MARION
ARBESMAN | PAIGE | LOLA
ARMSTRONG | JINNY |
ASHENAFI | TEODROS |
ATAYA | RABEA | F
ATWATER | DOROTHY |
ATWOOD | MIRJAM | BEATRICE
ATWOOD | PERRY | DALL
AU | DERRIC | THOMAS WAIHO
AUSTIN | SHELBY | LEIGH
AUYANG | SUNNY | YING CHI
AU-YEUNG | CANDACE | ASHLEY
AW | ETHAN | YOW TYNG
AXFORD | ERIC | CHARLES
AXFORD | MICHELLE | ROBERTA
BADAR | VICTOR | MINOR
BAGLEY | JONATHAN | THOMAS
BAGLEY | ROBERT | LEE
BALDINI | NORA | IRENE
BALFOUR | ALASTAIR | ALBERT DAVID
BALLHORN | SCOTT | LEWIS
BARKHURST | JUDSON | JOSEPH
BARR | ALISON | LESLIE
BARR | NORMA | ELEANOR
BARRELET | JEAN | ETHEL
BARRY | DANIEL | BRUCE
BARTON | CAROLINE | VICTORIA
BARVIR | ROSANNE |
BASKWILL | NICHOLAS | STEPHEN
BAUMBERGER FELLMANN | DANICA | BEATRICE
BAUMGARTNER | HEIDI | GERTRUDE
BAYLIS | CHARLES | STEWART LORIMER
BAYLIS | DONNA | MAE
BECHTEL | CHRISTIAN |
BELDI | ICILIO |
BELL | ADAM | VERDUN
BELL | TRACY |
BENEDICT | JOHN | ROSS
BENSON | CARLTON | LEE
BENSON | CHERI | ANN
BERLOFF | NATALIA | GENNADIEVNA
BERMUDEZ | LANCE | DION
BHARWANI | JABEEN |
BILLINGS | JOHANNA | LYN
BINDER | BUKHARD | ANDREW
BIRD | ARTHUR | D
BISHOP | ANDREA | MEGAN
BLANCHARD | LOUISE | MARIAN
BLANCPAIN | RANI | ERICA
BLONDEEL | PHILLIP | NICOLAS
BLOUIN | MARIE | HELENE
BLY | JARED | DOUGLAS
BODDEN | ERIK | MARK ALEXANDER
BOERLIN | JESSICA | SARA
BOERLIN | REBECCA | LOUISE
BOLLER-HUBER | DANIELLE | MARIE BOLLER
BOLSINGER | YANNICK | KEVIN
BONELL | ROBERT | DOUGLAS
BONNETT | KRISTOPHER | LEE
BORDEN | LARS | ERIC
BOULTER | CAYLEEN | CONSTANCE ANGELICA
BOULTER | JULIEN | WINFORD
BOURQUE | LEON |
BOVAY | BROOKE | LOUISE
BOWMAN | CECIL | REGINALD
BRADBEE | CHERYL | ANN
BRADFORD | STEVEN | JAMES
BRADLEY | JULIA | VAN VLECK
BRANDLI | GERDA | REGULA
BRANDLI-BASLER | EVELYN | BEATRICE
BRATTY | DIANE | MARIE ROSINA THERESE
BREDESON | JAMES | CLEMENS
BROGER | CAROLE | MARIE DAVITT
BROWN | ANDREW | THOMAS
BROWNE | LORA | JEAN
BRUCE | DAVID | JAMES
BUCK | GARTH | ORVILLE
BUCKLER | ETHEL | MARGUERITE
BUCKSPAN | MARTIN | BARRY
BURGER CRAIG | JILL | KATHLEEN
BURGESS | GWENDOLINE | MAY
BUSER | MANUEL | ERICH
BUTLER | JOHN | XAVIER
BUTOW | SUSAN | ELIZABETH
BYAM | JO ANNE |
BYAM | STUART | PETER
C.H. VON ALVENSLEBEN | WENDULA | MARIA
CAI | WEI |
CAIRNCROSS | SARAH | WHITTLESEY
CALDWELL | SARAH | LENORE
CAMPBELL | DONNA | ELAINE
CAMPBELL | TARA | SHEREINA
CAPACCIOLI | ALBERTO |
CAPELLO | MAUREEN | LEE
CAROON | VALERIE | LYNN
CARPENTER | ERIN | MAIGREAD
CARROLL | LAURA | ANN
CARTER | DAVID | BLAKE
CARUEL | FRANCOIS | JAMES
CARVETH | IDA | JEAN
CAVNER | RORY | CRAIG
CEBALLOS | RICARDO | ANDRES CORREA
CERMAK | IRENE | VERA
CHADWICK | BRIAN | PAIGE
CHAI | YOUNGMI | NOH
CHAMBERS | VALERIE | ANGELA
CHAN | ALEXANDER | CHEH-HWAN
CHAN | HECTOR | IVAN TY
CHAN | MONICA |
CHAN | SUSAN | PIKSAN FUNG
chang | flora | chia-I
CHANG | LEE | SHU
CHANG | WARREN |
CHAPMAN | CHRISTIE | LAIRD
CHARETTE | GERARD | PAUL
CHARLES | FLORENCE | ELAINE JACKSON
CHARLES | NICOLE | LABRINE
CHARMAN | PATRICIA | LYNN
CHAU | PRISCILLA | AMY
chell | kimberly | joy
CHEN | CLAUDIA |
CHEN | KEVIN |
CHEN | MARY | YU HWA
CHEN | PAO | TZU
CHENG | YIN | HSI
CHERN | ANGELA |
CHESLUK-BARTON | TRACEY | DEONA
CHEUNG | THOMAS | CHUFOO
CHEVION | PELEG | SHOSHAN
CHIANG | LEE | LIAN
CHIAO | ALICE |
CHIAVI | JULIANA | (JULIA)
CHIEN | JEFFREY | SHENG-PING
CHISHICK | RYAN | GERALD SHANE
CHMELICEK | JOHN | THOMAS
CHOE | REGINA | WOONJEONG
CHOEGYAL | RINCHEN | HARRY CHARLES
CHOI | MYUNG | JAE
CHOO | JODI | HUIJUAN
CHOO | RONI | AKEAKAMAI
CHOW | PORTIA | BICK YUEN
CHRISSOVELONI | ZOE |
CHRISTIE | DEREK | WAYNE
CHRISTOFFEL | JOHANNES | THOMAS
CHUA | LYDIA | JIA-LI
CHUN | SUNG | HWAN
CHUNG | ABIGAIL | HUI-JUAN
CHUNG | ANDREW | B
CHUNG | SHIRLEY | THERESE
CLANFIELD | JANICE | LYNN
CLARK-LINDH | CONNOR | ANDREW
CLOWER | ROBERT | WAYNE
CONLEY | MICHAEL | CHARLES
CONNORS | MATTHEW | JOHN
CORNFORTH | DELBERT | NEVILLE
CORNISH | PETER | JAMES SCHUYLER
COSTELLO | KENNETH | EDUARD
COSULICH | TIMOTHY | PAOLO ALFREDO
COTTER | JILL | ERIN
COURVOISIER | JEANNE | DANIELLE
COX | DOUGLAS | LEROY
CRACKEL | GAVIN | JAMES
CREE | MARILYN | WANDA
CRESSMAN | NADINE | LOU
CROTON | PETER | GARTH
CROWE | TIMOTHY | ALAN
CYMBAL | IRENE |
CYR | ALICE | LORRAINE
DAHL | JUDITH | MARIE
D'AILLY | KAREN | RUTH
D'AILLY | WOUTER | ADRIAAN
DAME | ELVA | IRENE
DANNHOF | ANNE | KATHARINA
DARCH | SHENANDOAH |
DAVIDS | LEO |
DAVIDSON | RALPH | CURRIE
DAVIES | STACY | JAYNE
DAVIS | MARK | ANDREW
DAVITT | KENNETH | PATRICK
DAY | AARON |
DE AYALA | MARIANA | BEATRIZ ZOBEL
DE BOER | PIET | J
DE LA GUARDIA | JOSE | MIGUEL
DE LUCA | ANTONIO |
DE LUCA | JOANN | KATHERINE BINDER
DE MATTOS | JOSE | AUGUSTO ARNIZAUT
DE PAREDES | DONNA | A CANEVARI
DE REUS | STEVEN | ROCHUS
DEEGAN | MICHAEL | JOHN
DEFFNER | GEORGE | MICHAEL
DEL CORRAL | ANA | LUCIA PEREZ
DELOUME | JOHN | LOUIS
DELWART | JANINE | LOUISE
DENIS | CHRISTINE | MARIE
DENNEHY | THOMAS | MICHAEL
DESOUZA | KRYSTEN | MARIE
DETTLING | GERTRUD |
DI LEONARDO | MARTHA | JEAN
DIEBERT | DIXIE | TENA DIANE
DOBIAS | AGNES | MARIE
DODDS | HOWARD | EDWIN
DOEHRING | RADKA | STYLEROVA
DOIRON | CAROL | MARIE
DOIRON | JOHN | FITZGERALD
DOUGLAS | SUSAN | ELIZABETH
DOWLING | ERIC | MORGAN
DOWN | ANTON | JAMES
DROUIN | MARC |
DUBACH | FABIO | DOMINIC
DUBLANKO | JOAN | ELLEN
DUBUIS | ANNE | GABRIELLE
DUECK | THEODORE | CARL
DUFF | TAMI-JO | RACHEL
DUMONT | LOUIS | ALEXANDRE
DUNHAM | KENT | EDWARD
DVORAK | BRADLEY | SCOTT
DYCK | REBECCA | ANN
DYKE | HEATHER | LOUISE
EBERIE | KATHLEEN | WHITING
ECHAVARRI | DANIEL | FELIPE
EGGENBERGER | KEVIN | MARC KURT
EGGLETON | MICHAEL | JAMES
EGLI | MICHAEL | THOMAS
EISENBERG | JUDITH | ELLEN
EKERS | RYAN | DANE
ELFORD | KELCY | THOMAS
ELIASON | LILYAN | FAYE
ELLIS | MELISSA | MEDLAND
ELLIS | NICK | HO
EL-SAHEB | HADY | NABIL SAMEEH
ENGSTROM | JENNIE | VICTORIA
ENSIGN | MARK | RAYMOND
ENSOR | HUGH | MCCRACKEN
EPPLEN | ROBIN | BENJAMIN
ESSELBURN | JOSEPH | JUN
ESTES | JAMES | MARTIN
ETTER | SUSANNE | FRANZISKA
EVANS | DAVID | OSCAR
EVANS | JAMIE | LLOYD
EVANS | JANE | BROWNING
EVANS | PENNY | ANN
EVANS | VICTOR | BRIAN
EXNER | LAURA | L
FAKNER | STEPHANIE | MAXINE
FANG | ROSE-JEAN | CHANG
FARR | CHARLEEN | DOROTHY
FEEHELY | LILLIAN | MARGARET
FEHR | JESSICA | NADINE
FERGUSON | ALEXANDER | MURRAY
FERREIRA | KAREN | JOYCE
FESTIVAL | MEGAN | BARBARA
FISCH | PATRICIA | ANNE
FISHER | JOANNE |
FLETCHER | KAREN | LEA
FLINN | PATRICIA |
FLUCKIGER | ERIC |
FLUECK | WERNER | THOMAS
FLYNN | KATHERINE | ELIZABETH DOROTHY
FOERSTER | ANDREA | MARGARETA
FONSECA | GABRIEL | ENRIQUE ADOLFO
FONTAINE | ANNE | CLAIRE COURVOISIER
FORGUSON | CHRISTOPHER | REED
FORJAN | EDWARD |
FOSTER | DAVID | WILLIAM
FOWLER | DANIEL | FONTENELE
FRAISE | AYMERIC |
FRANKLIN | HOLLY | ALICE
FRETZ | ISABELLE | MARIA
FRIDAY | LEE | RENIER
FRIESEN | ANNA | JOY
FU | LAUREN | JIAYU
FUNG | RONALD | CHUN-PONG
FUNK | TAMMY | SUSAN
FURITSCH | ROBERT |
FUST | ATTILA | FREDERICK
GAFFNER | TODD | MICHAEL
GAGNE | CAROLE | JACQUELINE
GAGNE | PATRICK |
GARCIA | GEORGINA | M.
GARDNER | HARRY | ROBERT
GARLOCK | CHRISTOPHER | TODD
GAULT III | JOHN | CLIFTON
GAVAZZI | ANNA | GEORGINA
GEIGER-SCHATTNER | SUSAN | LYNN
GERMAIN | ANNE | ELIZABETH
GETTY | ROBERT | GUNNER
GILBERT | CATHY | LYNN
GIMPEL | JACK | FRANK
GLAESKE | STEVEN | DALE
GLASSBERG | DEBORAH |
GLOGER | WOLFGANG | PAUL HERMAN
GNEHM-WHITING | AMANDA | HALL
GOETOMO | MICHAEL | XIU-HAO
GOH | DANNY | ALEXANDER VALDES
GOLDBERG | KENNETH | ARTHUR
GOLDSMITH | JOHN | HENRY
GOLDSTEIN | CAROL | JEAN.
GOLDSTEIN | JAY | ELLIS
GORMAND | PATRICE |
GORRELL | GUY | RONALD MICHAEL
GRAHAM | CHARLES | F
GRAHAM | JAMES | FREDERICK
GRAHAM | KAREN | ANN
GRAHAM | RAE | ANN
GRIFFIN | NAOMI | NAKAGUCHI
GRILLOT | OLIVIER | C
GUGELMANN | MICHELE | ELSA LEONIE
GUIDA | RONALD | MARK
GWALTNEY | LAMAR | ANDERSON
GYSELS | JOHN | FRANK
HAAS | CHRISTOPHER | MICHAEL
HABIB | ANNE | MARIE
HACKMAN | JAMES | CLEMENS
HACKMAN | JEANETTE | ALDERFER
HADDEN | DUSTIN | RYAN
HADLEY | ANITA | LIPPENS
HADLEY | JENNIFER | KATE
HAGIHARA | TOMOYUKI |
HAINKE | BERND |
HAIR | MICHAEL | LLOYD
HALATSIS | MARC | ERIC
HALL | EVANGELINE | JOY
HALL | KAREN | NOWLENE
HALL | PAMELA | BARBARA
HALUSCHAK | ALEXANDRA | GAIL
HALUSCHAK | MATTHEW | EVAN
HAMILTON | LINDSAY | KRISTINA FRASER
HAN | ALEC |
HAN | CHEE | UNG
HAN | DYLAN | YONG-DING
HAN | WAGNER |
HANNIGAN | THERESA | RACHELLE
HANSON | SHANNON | ROCHELLE YVONNE
HARALABAKOS | ARISTIDIS |
HARALABAKOS | GEORGE |
HARALABAKOS | JOANNA |
HARRIS | JONATHON | JEFFREY
HARRIS | KAREN | MARIE
HARRISON | SOPHIA | CAMILLE
HASLER | ASTRID | DIANE
HAYWARD | JUSTIN | SEAN
HAZE | ANDREW | JAMES
HEAD | THAYER | VIRGINIA
HEALEY | GRACE | ELLEN
HEATH | DAVID | MARTIN
HECKES | FRANK | MARIANO MELCHOR
HEGGLIN | OLIVER | LEO
HEINEN-KONSCHAK | ERIC |
HEMPEL | GREGORY | PHILIPP
HEMPEL | MELANIE | GERMAINE
HENDERSON | RUTH | MUNCY
HENGY | PHILIPPE | OTHMAR
HENNIGFELD | CLAUDIA | ANNA ERIKA
HENRIQUEZ | ALEXANDRA |
HERRMANN | MARTINA |
HERSEY | DEMETRI | ALEXANDER
HERZFELD | WINFRIED | CHESTER
HERZLINGER | STEVEN | ALLEN
HEWITT | LINDA | MARIE
HEWSON | PHILIP | ERNEST
HEYER-BOOT | MARTINE | HENRIETTE
HIMEL | DANIELLE | STACEY
HO | DAPHNE |
HODSON | THOMAS | EDWARD
HOEFFLEUR-THALIN | LESLIE | ARLENE
HOEPKER | NIKOLAS | CHARLES
HOFFMANN | MARION | KATHARINA DELHEES
HOHLFELD | JUDITH | ANNE
HOLDEN | JOHN | PHILLIP
HOLTEN | MICHELLE | LOUISE
HOLTOF | NIELS | JOZEF
HOLTZ | INGRID | SOPHIA
HONEGGER | MARKUS | D
HONHON | MURIEL | SANDRA ELISE
HOOVER | CATHERINE | MARIE
HOSGOOD | DOMINIC | EDWARD
HOUSLEY aka ERNEST HOUSLEY | JAMES |
HSIN | CHUNG | HERNG
HSIN | MEI | LEN
HSU | TANYA | S.
HSU-HO | MANDY | BEIFEN
HUANG | ALISON |
HUBER | ALENA | IDA
HUDEC | ALVIN | THEODORE
HUMPLIK | CARMEN | BEATRICE
HUNTER | EMILY | MARGUERITE
HUNTING | ERIKA | ANNE SZABO
HUSTLER | JOSEPH | RANDOLPH
IEZZI | PHILIP | LAURENCE
IKEDA | RUMIKO |
ISDELL-CARPENTER | SIMON |
ISLER | MELISSA | CROSS
JAGORINEC | JOHN |
JAGUAR | JADE |
JAIN | ANITA |
JAREK | AMY | BETH
JENNINGS | MARK | CRITCHLEY
JENNINGS | MICHELLE | BERNADETTE
JEON | HONG | SEOK
JESBERGER | JAMES | ARTHUR
JO | JUSTIN |
JOHNS | MARY | ANN
JOHNSON | ALLISON | LINDSAY
JOHNSON | DEREK | IAN
JOHNSON | SHEREE | LIN
JOHNSTON | MEGAN | KATHLEEN
JOHNSTONE | CHERYL | LYNN
JONES | LIANE | ROCHELLE
JOO | JENNIFER | JANET
JORGENSEN | SHARON | LEE
JORSTAD | ANNE | KATRINE
JORSTAD | INGER | SOFIE
JOSEPH | ROBERT | ANTHONY
KAEMPF | CLAUDIA | IRENE
KALAYOGLU | BELKIS |
KANAN | GAVIN |
KANG | JOAN | OAK
KANG | KIMBERLEY |
KAPUST | HANS-DIETER |
KATZ | ANDREW | STEVEN
KATZMAN | DAVIDA |
KAUFMAN | SARAH |
KAWASHIMA | KAZUMITSU | PAUL
KAYE | EDWARD | KENNETH
KEDAR | DAFNA | SARAI
KELEN | JENNIFER | SUSAN
KELLER | CHRISTOPHER | THOMAS OTMAR
KELLER | EVELYN | ELIZABETH
KELLER | GABRIELLA | MARIA KOENIG
KELLER | KARIN |
KELLERHALS | KASPAR | PETER
KERR | AMANDA | EVELYN
KEYES | BRETT | JOEL
KHANNA | AYESHA |
KHASHOGGI | ASSIA | AMR
KIESWETTER | LUIS | EMILIO MOUYNES
KIM | BRIAN | GUNWOO
KIM | BRIGITTE |
KIM | JASON | HYO
KIM | KENNETH |
KIM | KYUNG | SUN
KIM | LORIE | MINSUM
KIM | MI | SOOK
KIM | PETER |
KIM | TEDDY |
KIM | YANG | SUE
KIM | YOUNG | JEON
KIMMEL | ROBERT | L
KING | BARBARA | ANNE
KING | LEWIS | ARLO
KING | THEODORE | WALKER CHENG-DE
KINGSBURY | PATRICK | JOHANN
KIRK | MELANIE | GRACE
KITAGAWA | CHRISTNE | ARISA
KLEIN | MARIA |
KLEIN | SETH | DAVID
KNOUSE | KRISTEN | JOY
KNUFF | BARBARA | LOIS
KODAMA | NAOKO | JUNE NAMIOKA
KOHLER | KATHLEEN | ANN
KOHLER | STACEY | LYNN
KOHLER | STEPHANIE | ANN
KOKKONOS | ALEXIS | IOANNIS
KONISHI | TAKAAKI |
KONZ | NICOLE | MARIA
KOO | DENNIS | DONG-BEUM
KOO | DONG | JIN
KOO | JAE | MO
KOSTYK | DEBRA | LEE
Kramer-Palmer | Michele |
KRANC | SAFFIRE | HANNA
KROEKER | JANICE | LILLIAN
KUGEL | LARISSA | ERIN
KUHN | ROSEMARIE |
KUO | RICHARD |
KURMANN | DENISE | MARIE
KWAN | MELVYN | SHIU-MING
LAI | JESSE | JUAN-XIANG
LAI | NIKI | WING CHAU
LAM | JENNIFER | FUNG SANG
LANEVILLE | PETER | PAUL
LANKFORD | JEREMIAH | ALEXANDER
LARDNER | BOBBIE | JO
LARGE | JOANNE | ELIZABETH
LARRAIN | MARIA | PATRICIA
LATHROP | JAMES | JEFFERS
LATHROP | WILLIAM | BROWN
LAUGHERY | ELIZABETH |
LAUGHERY | GREGORY | JOSEPH
LAURIE | SEAN | DAVID
LAVIN | LISA | MARIE
LEASURE | JOHN | ASHLEY
LECLAIR | DAVID | JOHN
LEE | AIMEE | WEN
LEE | CHIN-HAO |
LEE | EUGENIA | QIU-TING
LEE | GRACE | SUM YEE
LEE | IVAN | JIN-HO
LEE | LEO | YAO
LEE | MIN | SANG
LEE | NANCY | WEN
LEE | SEAN | SHI-ZHE
LEGERTON | WILFRED | JOHN
LEHR | RITA | JOANNE
LENNARSON | ANN | CATHERINE
LENZINI | ARNOLD | ETTORE
LEONG | DARYL | ZHAN WEI
LESUEUR | RICHARD | MILO
LEUNG | ANDREW | YAT-FAI
LEURQUIN | VERONIQUE | MARIE
LEUSINK | LINDSEY | ELIZABETH
LEVERT | EVELINE | MONIQUE
LEVETTO JR | MARIO | J
LI | KAREN | KAY
LI | MICHELLE | MAN YEE
LIANG | JEANNIE | TUNG
LIEN | CHUN-HSIUNG |
LIM | JESSICA | SIAO-JING
LIM | JONATHON | WEI-REN
LIM | JUNG | WON
LIN | ANDERSON | BEIH-TZUN
LIN | FAY | LIAO
LIU | AN-PING |
LIU | JING | YI
LIU | KELVIN | CHIN-CHAN
LJUTOW | ANDRE | ALEXANDER
LOGAN | SANDRA | ELLEN
LOH | NICHOLAS |
LOO | CRYSTAL | XIAO-WEI
LOPEZ | MICHAEL | ANDREW
LOPEZ | REBECCA | HERNAEZ
LOUGH | SANDRA | LEE
LOUIE | RAYMOND | SEE CHUN
LOUTFI | KARIM | ROBERT
LOVELL | WILSON | JOSEF
LOWE | TRINA | LYNN
LOWRY | DONNA | ELAINE
LU | NICHOLAS |
LUDERS | JACQUELINE | ANNE
LUSTIGUE | AGNES | JUDITH
MA | DANNY | WAI KIU
MAC NAUGHTON | MICHAEL | DAVID
MACDONALD | DIANA |
MACDONALD | WENDY | ELIZABETH
MACINTYRE | MARY | ELIZABETH
MACLELLAN | ROBERT | LEWIS
MACNUTT | DEBRA | MARIE
MACRI | MICHAEL | BRIAN
MACY | GORDON | THOMAS
MACY | RICHARD | HOOE
MADSEN | JENNIFER | JO
MAGEE | YUSHI | CHRISTOPHER
MAH | MEIXING |
MAISCH | BARBARA |
MAJAK | DONNA | FLORINE
MAKEPEACE | CAROLINE | JANE
MALESKU | JENNIFER | MANA
MALUS | ROCHELLE | SCHULTZ
Manley | E | Philippa
MANNING | JAMES | ARTHUR FORT
MARKLEY | ROBERT | KARL
MARTO-MALINOWSKI | OCTAVIA | ANNA
MATHER | MARY | JOAN
MATTHEWS | JEREMY | JOSEPH
MAUE | ERIKA | ILSE
MAUTNER-MARKHOF | DIANA | MARIE
MAYER | DENNYS |
MC NEIL | DAVID |
MC NEIL | DAVID |
MCAUSLAND | STUART | ROY
MCCORMACK | NAOMI | ETHEL
MCCOY | LIZA | MARIE
MCCUTCHEON | SUSAN | REBECCA
MCDONALD | DENISE | ELISE ANN
MCGONIGAL | DANIELA | MARIA
MCKNIGHT | WESLEY | ERNEST
MCLEAN | DELLA | MARJORIE
MCLEOD | LINDA | GAIL
MEESTERS | SASKIA | CORINNA
MEIJER | MARGOT |
MEINERTZ | KIRSTEN | MARGARET
MEINTEL | DEIRDE | ANN
MELA | JOHN | M
MELKA | DENNIS | NICHOLAS
MELTON | NOEL | KENNETH
MENA | CATALINA | FRANCISCA
MENA | FRANCISCO | JAVIER
MENARD | JAMES | DOUGHTY
MENDENHALL | MICHEL | VINCENT
MERTES | BARBARA | FRANZISKA
MERVILLE | PATRICK | CHRISTIAN
MEYER | MICHAEL | PETER
MIAN | ISMAT | SAIRA.
MIDGETT | JOYCE | MARIE
MIHM | KIMBERLY | ANN
MILLER | ARTHUR | E
MILLER | GORDON | MILES
MILLER | JEAN |
MILTENBURG | JENNIFER | ELIZABETH
MISLIN | MARC | PATRICK
MITHANI | SHAZMA | SHIRAZ
MOHR | NADIM | BERNARD
MOLINE | REBECCA | MARIANNE
MONTGOMERY | DANA | CATHERINE
MOON | EUGENE | YOONJOO
MOON | JOHN | WESLEY
MORA | JAIME | ANDRES LOPEZ
MORGAN | JESSICA | RIEL
MORIN | JENNIFER |
MORRIS | EDITH | IZABELLA
MORSE | EWART | ALEXANDER
MORTON | MILDRED | ANN
MOSKAL | SUSAN | REBECCA
MOSKOWITZ | PAMELA | DIANE
MOUAWAD | CAROLINE | BITAR
MOUYNES | CARLOS | ROBERTO
MULLER | MARGUERITE | THERESA
NAF | PATRICK | SEAN
NAKAJIMA | HIROAKI | ROBERT
NASH | DAVID | ANTHONY
nee ANDREWS | KATHERINE | ELIZABETH SPENCE
nee FAVOT | ALLISON | COLLEEN DWYER
NEESEN | CHRISTOFFER |
NEIRYNCK | TATU | MARY
NELSEN | HEIDI | MARIE
NG | CRYSTAL | CHERWYN
NG | JANELL | MOO EN
NG | KAI-LING |
NG | MING | YIN
NGIM | AUGUSTIN | DA-WEI
NGUYEN | HUNG | QUOC
NICOLAIDES | MARIA |
NIXON | ELDON | FORD
NOH | HOWARD | YUNMIN
NOLAN | JULIA | ESTHER
NOVOSEL | RITA | ANDREA
NOWAK | MICHELE | ANN
NUSBAUMER | SEGOLENE | MARIE
NUTTER | RICHARD | WALLACE
O'DONNELL | JAMES | DENIS
OETKER | ANTONIA | NICOLA GEORGIA
OLMSCHEID | RITA | MARIE
OLONDRIZ | FRANCESCA | MARA MALLARI
OLSON | RUTH | ANNE
OLTHUIS | SANDRA | LYNN
ONEAL | SARAH | SOPHIE
ONG | JUSTIN | GUANG-XI
ONYSHKO | DANIEL | JOHN
OOI | RUI | TING
OPHEK | MICHAEL | ISAIAH
OSA-WYSER | ANNETTE |
OTTO | CHRISTIAN | KLAUS
PAGEL | HANNAH | NICOLE
PAHL | JONAH | BENJAMIN
PAHL | PAMELA | JANE
PAKEMAN | BETSY | GENE
PAN | RICHARD | WEI YANG
PAPERNICK | MICHAEL | DARRIN
PAPERNICK | WENDY | ROBIN
PARDO | SONIA | MARIA KABA
PARK | JINYOUNG | CHRISTINA
PARK | NEUNG | MOON
PARK | SANGMO | JEFF
PARK | SUK | YUNG
PARKER | NICOLA | CAROLINE
PATEL | SHEILLA | CHITTARANJAN
PATMORE | CARL | ALVIN
PATTERSON-CUERVO | GLORIA | ROSSANA
PAZ BRISENO | SARA | GABRIELA
PEARCE | JONATHON | SAMUEL
PECKER | LAURE |
PEDERSON | KRISTEN | LUE
PEK | SHAWN | JUNJIE
PENTECOSTES | MARILYN | SUMER
PEROTTO | MARTIN | ALEJANDRO
PERRY | DAVID | EMERY
PERRY | LISA | CAITLYN
PETER | CYRIL | PATRICK
PETRAS | JOAN | ELLEN
PFENNINGER | RICHARD | PAUL
PHARAON | LLANA | GHAITH
PHILIPS | CAMILO | J.
PHILLIPS | ROBERT | SCOTT
PHUA | PAMELA | HUI-LUN
PIERCE | SUSAN | LYNN
PIMENTEL | DANIEL | PHILIP CAETANO
PIRO | WOLFGANG | MANFRED
PITCHER | JANET | ZANIER
PLANKEY | IVONNE | ELISABETH
PLETT | RONALD | ABE
POON | SUEN | SON
POUR-AMMANN | EVA | MARGRIT
POZZI | MARCO | ANDREAS
PRADA | ERICA | ANNE
PRASAD | VIKRAM |
PRETELLI | EVA | CHRISTINA
PUDVAH | MICHAEL | BERNARD
PUNG | SOKE | MAY
QAMAR | DIMITRI | KHALED BASILE
QUAIL | ERIC | WILLIAM
QUAN | EDWARD |
QUINN | HOLLY | MARIE
QUINN JR | THOMAS | REGIS
RADOVANOVITCH | ROLF | PETER
RAFUSE | LINDA | LEE
RAMAPRASAD | RAJIV |
RAPPAPORT LISKA | SYLVIA | ANN
RASMUSSEN | BROOKE | NICHOL
RASMUSSEN | DEBORA | ELIZABETH
RATCHFORD | WILLIAM | JOSEPH
RATNAM | JUVINA |
RAUME | CRAIG | DOUGLAS
RAYBURN | GEOFFREY | FRANKLIN
READ | KENNETH | JOHN
REEDY | WILLIAM | JOSEPH
REGIER | HILDA | MARGARETA
REICHE | ALEXANDER | WILLIAM ANTON
REICHMAN | JOAN | PETRA
REID | ALISON | HEATHER
REID | ANDRIA | CAROL ANN
REID | MARY | KATHRYN
REIKIE | BARBARA | JEAN
REIMER | JOHN | JACOB
REIMER | LUKE | ALVAH
REINHARDT | PAUL | ALAN
REMINGTON | ROBERT | JAMES
RESSEL | VERA | IRENE
REUTER | KATHARINA | SIMONE
REUTERSKIOLD | CHRISTINA | J
REYNOLDS | STEVEN | CAMPBELL
RHOADES | MARLENE | ELAINE
RICHARDS | PATRICIA | LYNN
RICHARDSON | PAULA | JEAN
RIDDELL | ERICA | MARIE
RIDDELL | MORAG | ANNE
RISEMAN | ANDREW | LEE
ROBERSON-CONSUL | BRADLY | J
ROBERTS | CANDIS |
ROBINSON | ELIZABETH | ARLENE
ROBINSON | JAMES | BARRY
ROBINSON | JOSEPH | LORENCE
ROBINSON | PAMELA |
ROBINSON | ROBERTA | RAE
ROCHAT | HELENE | NATHALIE
RODEMERS | CLAUDIA |
ROETHEL | CORNELIA |
ROGERS | DAVID | PETER
ROLLEMAN | JACQUELINE | MARGARET
ROOSEN-RUNGE | CHERILYN | FRANCIS
ROSE | CAROL | FRANCES
ROSE | ROBERT | PATRICK
ROSS | FIONA | MARGARET
ROUTLEDGE | DAVID | GLENN
ROUX | NICOLE | ANDREE
ROYER | ALLAN | THEODORE
RUDDOCK | CHERYL | KAY
RUNKLE | SEAN | MARK
RUOSS-CAMENZIND | MARIANN | VIRGINIA
RUPARELIA | RAJIV | SUDHIR
RUSSELL | ALBERT | LEE
RUSSELL | DELILAH | RUTH
SAAR | MICHAEL | WERNER
SAHGAL | GIORGIO | GAUTAM
SALES | JOSEPH | GORDON
SALTARELLI | LAURA | ANGELA
SAMMET | DIANE | KAY
SAMYNATHAN | BENJAMIN | AMALDAS
SANCHEZ | ROBERTO | ANTONIO
SANDERS | ROBERT | ALLAN
SANDRI | GIAN | ANDREA
SANDS | DAPHNE | ANN
SANDS | SUZANNE |
SANDSTROM | VIRVE |
SANTOSO | RAYMOND | LEE
SARDINHA | JULIE | ANN
SASAKI | YUTO | ZACHARY
SAUCIER | MARY | DUBOIS
SAXER | STEFANIE | ANNE
SCALES | DIANA | ANNE-MARIE
SCALES | MICHAEL | THOMAS
SCALZO | FRANCESCA | MARIA
SCHAEPPI | ALESSANDRO |
SCHAEPPI | MASSIMO |
SCHAER | BEATRICE |
SCHAWINSKY | DANIEL | ELIA
SCHEIDEGGER | HEATHER | ANN
SCHIEFERDECKER | YVONNE | JOANNE
SCHLATTER | YVES | ERIC
SCHMID | MARC | WILLIAM
SCHMID-KUHNHOFER | MARIE-THERESE |
SCHMIDT-HEBBEL | ANDRES |
SCHMIDT-HEBBEL | VIVIAN |
SCHMIDT-RADDE | OLIVER | JOHANN
SCHNEIDER | CLAIRE | SOPHIE
SCHNYDER | CHRISTOPHE | LUC
SCHOYER | MARNIX | KAREL NICO
SCHREIBER | KAREN | IRENE
SCHREIBER | MARNIE | ANN
SCHUTTE | MARK | ANTHONY
SCOTT | MICHAEL | PROWER
SCOTT | SEAN | SEBASTIAN
SEMBER | JEFFERY | PAUL
SETLIFF JR | ERNEST | GORE
SEYFFERTITZ | KARL | T. G. MARIA
SHAFER | JAMES | RINEAR
SHAFER | SHARON | ANN
SHANK | REBECCA | SUSAN
SHANNON | JEFFREY | JOHN
SHAUNESSY | TERENCE | KEVIN
SHAW | BRIAN | MATTHEW
SHAYO | RAYMOND | DAVID
SHEN | JASON | SHIH CHIEH
SHERIDAN | REBECCA | KATHLEEN
SHIAU | BO | BOR-YEU
SHIAU | CHANG | YING
SHIELDS | DEBORAH | ANNETTE
SHIELDS | LANA | LEIGH
SHIU | JEFFREY | MA
SIEBENMANN | MANUEL |
SIEBENS | WILLIAM | CARTER
SIM | SOON-SIANG | KIMBERLY
SIMON | HANNAH | BERIT BERNADETTE
SIRIVIRIYAKUL | VORAYA | THIRAKOMEN
SLATER | CHARLES | CAREY
SLEGERS | EDNA | DOROTHEA
SMITH | ALLEN | DOUGLAS
SMITH | CAROL | PATRICIA
SMITH | CHESTER | JUNIOR
SMITH | ELISE | BECKET
SMITH | KAREN | GAY
SMITH | KRISTINA | KELLY
SMITH | LINDA | ANNE
SMITH | MIQUELYN | JEAN
SMITH | THEODORE | DANIEL
SNIDER | WESTON | JAMES
SNOOK | GALEN | WALTER
SOLIS | GERARDO | ALBERTO
SORENSON | REBECCA | LOUISE
SORRENTINO | LETIZIA | FRANCESCA
SOSINSKI | THOMAS | JOHN
SPARKS | WADE | ALAN
SPITZNAGEL | LAURA | CAROL
SPRACKLIN | CHRISTINA | ANN
SPRENGER | CRYSTAL-LEE |
SPRINGATE | HILARY | ROBERT DOUGLAS
ST JOHN | LORING | PAULSEN
STADLER | MICHAEL | MARKUS
STANKIEWICZ | WITOLD |
STEIN | NICOLE | JACQUELINE
STEIN | RAYMOND | MARK
STEINER | BRIAN |
STEINHAUSER | JACQUELINE | MIRIAM
STERN | FLORENCE | MARIE
STERNS | CYNTHIA | SHAWN
STEVENS | ALAN | PETER
STEWART | SAMANTHA | JEANNE
STIEDA | ALEXANDER | JOHANN HANS
STIEGER | DALIAH |
STIJOHANN | ANNETTE | MARIA
ST-JEAN | GENEVIEVE |
STOERTZ | WILLIAM | SWINNERTON
STONE | BOE | CHAD
STRATTON | BARBARA | ELIZABETH ANN
STRAUB | ROLF | THOMAS
STRAUGHAN | ROBERT | WILLIAM
STREETER | JEDD | CHARLES
STRICKER | SANDRO | BRIAN
STURZENEGGER | KEVIN | THIERRY
SUDAN | SABINA |
SUESS | LILLY |
SUKAMTO | KARISA | ANNE
SVENDSEN | JAIME | JO
SVOBODA | CARL | JOHN
SWEET | BRIAN | DAVID
SZAVA-KOVATS | GEORGE | HELMUT
SZEKRENYES | CHRISTINE | NICOLE
TAGG | JAMES | DOUGLAS
TAGG | JUNE | ELLEN
TAKEUCHI | AYAKO | JUDY
TARDIN | JACQUELINE | CORNELIA PITTET
TATE | MELANIE | LISA
TAVES | KENNETH | EDWARD GORDON
TAY | DANIEL | CHEE-CHUNG
TAY | JIREH | JIE
TAYLOR | KELLI | ANGELA CHRISTINE
TAYLOR | STEPHEN | CRAUFURD
TEBAY | WILLIAM | WARREN
TEMI | ASTI | ANDAYANI
TENENBAUM | GARY | JAY
TENGER | CATHERINE | LOUISE
TEO | ABIGAIL | HUI-WEN
TEO | MICHELLE |
THAELL | COURTNEY | CAROLINE
THAELL | ROBB | HURLBURT
THEMIG | NEIL | EDWIN
THIO | NANCY | GIOK TAN
THOLEN | PAUL | ARTHUR
THOMA | GARY | LEE
THOMASSIN | ROMAN | KURT
THOMPSON | CHARLES | EDWARD
THOMPSON | MARK | ALLAN
THOMPSON | TRACI | LYNN
THORNE | SUSAN | SCHULTZ
THORNGATE | WARREN | BAYLEY
THUNDERSTORM | LYNNE |
THUNDERSTORM | SHADOW | FOX
THUNDERSTORM | TUNDRA | LEAF
TIMMONS | KELCY |
TING | STEPHEN | DAVID
TKACHYK | BRIAN | JOHN
TODTMAN | SARAH |
TOLIVER | CAROL | LESLIE
TOMAN | CAMILLA | PAULA
TOMAN | SARA | SCOTT
TOMAN | TIMOTHY | JOSEPH
TOTODA | TAKESHI |
TRAUTMANN | GARY | THOMAS
TREMBLAY | LORRAINE |
TSAI | JAMES | C
TSE | JESSICA | HAYES
TSE | THERESA | Y. Y.
TSENG | SU | CHEN HELENA CHIEN
TSIEN | JOSEPHINE | PING N
TSUI | LAURA | MAN YANG
TULLIUS | NIKOLAUS |
TUNG | BORIS |
TURNER II | CLAYTON | MAURICE
TWISS | GILES | CHRISTOPHER RONALD
TYLER | FRED |
UITTENBOSCH | MARCEL | RENE
ULRICH | ROBERT | BRIAN
ULRICH | RUTH |
URBINA | ANDREA |
VALOIS | CAROL |
VAN DER AUWERA | CHLOE | ALLISON
VAN DER HAMMEN | ELEANOR | STRANZEL KLEPEIS
VAN LOOVEREN | SONIA | MARIA
VAN MAELE | BENOIT | ANNE KRIS
VANDERMEULEN | CORAL | ANN AMANDA
VARDI | SHARON |
VEGA | ALICE | GRACE CROKER
VERWEIRE | EILEEN | THERESA
VEST | FRAUKE |
VETTER | MARJORIE | DORIS
VLACHOS | MAYA | MELANIE
VOLI | MARY ANN | MELANIA
VOLLMAR | JEFFREY | NEIL
voloshchuk | vladimir | mikhaylov
VON CROY | Anastasia Maria Irina | PRINZESSIN
VON EYE | DONATA | KAROLINA
VON GIERKE | KARIN | J
VON MEISS | DAVID | CHRISTIAN
VON-HOLTEN | DEAN |
VOSU | TREVOR | ANTHONY
VYBIRAL | MARIE-ASHLEY | CARMEN
WADDINGTON | BROOKE | VICTORIA
WAEBER | KAREN |
WAGNER | CATHARINA | JOHANNA
WALLACE | AMELIA | ELIZABETH
WALTER | BENJAMIN |
WANG | CAROL | CHUNG-I
WANG | JOYCE | CHRISTIE
WANG | TZU | YAO
WARD | BELINDA | MAY
WEBB | CHRISTOPHER | JOHN
WEBER | CARMEN | EILEEN
WEBER | RUTH | JANELL
WEINGARTEN | JORDAN | SAMUEL
WEINGUNI | PASCAL | ANDRE
WELCH | FREDDY | EDWIN
WELLS | WILLIAM | ROBERT
WENK | ALINE | JOANNE
WERNER | ALEXANDER | THEODORE
WERNER | BEATRICE | AURORE
WESLEY | DOMINIC | TRIANTAFILLOS PAPADOPOULOS
WEST | KARLY | NATASHA
WHEATLEY | ANN | BRAUN
WHITBECK | NICHOLAS | DILLON
WHITE | BARBARA | LOUISE
WHITE | MARY | THERESA
WHITELAW | LINNEA | SARAH
WHITINGER | KATHLEEN | ROSEMARY
WHITINGER | RALEIGH | GEORGE
WHITNEY | CARL | LINN
WHITTON | CAROLYN |
WIDEMAN | LEOLA | KATHLEEN VIVIAN
WIEBE | STEPHANIE | ANN
WIESENDANGER | THOMAS | HANS ULRICH
WIGHAM | LAUREN | HOEFLICH
WIGOD | REBECCA |
WIJNVEEN | EDWARD | RAYMOND
WILCOX | KATHLEEN | ANN
WILES | ANNE | ELIZABETH
WILES | RICHARD | NIGEL
WILKINSON | CRAIG | WILLIAM
WILLIAMS | CECIL | HAROLD
WILLIAMS | DAVID | I
WILLIAMS | JONATHON | SCOT
WILLIAMS JR | THOMAS | KEVIN
WILLIS | LYNDA | PAIGE
WILSON | CATHERINE | ELIZABETH
WILSON | DAVID | ALLAN
WILSON | IAN | PATRICK JOSEPH
WINFIELD | MARLENE | BLAUER
WISHART | CORA | NORVADA
WISKOTT | ALEXA | SEA LOUISE
WITHAM | LESLIE | KAREN
WONG | DILYS | YUET-MEI LEE
WONG | JANET | MAE KEE
WONG | JOY | HOI YAN
WONG | WAI | KONG EDMAN
WOOD | EDWARD | GREGORY
WOOD | IAN | DOUGLAS HAMILTON
WOOD | KAREN | DALE
WOOD | LAWRENCE | EUGENE
WOODALL LUNDY | JANETTE | ELIZABETH
WOODWARD | CHRISTEL | ALMA
WOOLNER | ELISABETH |
WORSFOLD | TREVOR | CHARLES
WRIGHT | PATRICK | STEFAN
WU | ELAINE |
YATCHISIN JR | JOHN |
YATES | HENRY | PUGH
YAU | KING | YEUNG
YEO | FARRAH | MARILYNN
YEUNG | ALLEN | TAK BUN
YEUNG | THEODORE | TAT
YON | EUNG | JAE
YOSHIDA | TAKAAKI |
YOUNG | NANCY | LYNN
YU | ARTHUR | WAI TAO
YU | EDWARD | SHIN-HO
YU | YEN | CHIA
YU | YU |
YUEN | LEONARD | HSU
ZANETTI | INES | MARIA
ZANETTI DAELLENBACH | ROSANNA | ANITA
ZEBROWSKI | ANN | MARIE
ZHENG | XIAOJUN | DAVID
ZOBRIST | STEPHEN | ROLF
ZUGARO | DARIO | A GALLI
ZURFLUH | JOHN | HENRY

Dated: January 21, 2016.
Maureen Manieri,
Manager Classification Team 82413, Examinations Operations—Philadelphia Compliance Services.

[FR Doc. 2016-02312 Filed 2-5-16; 8:45 am]

BILLING CODE 4830-01-P